DEPARTMENT OF HEALTH AND HUMAN SERVICES

Agency for Healthcare Research and Quality

Meeting of the National Advisory Council for Healthcare Research and Quality

AGENCY: Agency for Healthcare Research and Quality (AHRQ).

ACTION: Notice of public meeting.

SUMMARY: In accordance with section 10(a) of the Federal Advisory Committee Act, this notice announces a meeting of the National Advisory Council for Healthcare Research and Quality.

DATES: The meeting will be held on Friday, July 26, from 8:30 a.m. to 4 p.m. and is open to the public.

ADDRESSES: The meeting will be held at the Hubert H. Humphrey Building, 200 Independence Avenue, SW., Room 800, Washington, DC, 20201.

FOR FURTHER INFORMATION CONTACT: Anne Lebbon, Coordinator of the Advisory Council, at the Agency for Healthcare Research and Quality, 2101 East Jefferson Street, Suite 600, Rockville, Maryland, 20852, (301) 594-7216. For press-related information, please contact Karen Migdail at (301) 594-6120.

If sign language interpretation or other reasonable accommodation for a disability is needed, please contact Mr. Donald L. Inniss, Director, Office of Equal Employment Opportunity Program, Program Support Center, on (301) 443-1144 no later than July 22, 2002.

Agenda, roster, and minutes are available from Ms. Bonnie Campbell, Committee Management Officer, Agency for Healthcare Quality and Research, 2101 E. Jefferson Street, Suite 400, Rockville, Maryland, 20852. Her phone number is (301) 594-1846. Minutes will be available after August 30, 2002.

SUPPLEMENTARY INFORMATION:

I. Purpose

Section 921 of the Public Health Service Act (42 U.S.C. 299c) established the National Advisory Council for Healthcare Research and Quality. In accordance with its statutory mandate, the Council is to advise the Secretary of the Department of Health and Human Services and the Director, Agency for Healthcare Research and Quality (AHRQ), on matters related to actions of the Agency to enhance the quality, improve outcomes, reduce costs of health care services, improve access to such services through scientific research, and to promote improvements in clinical practice and in the organization, financing, and delivery of health care services.

The Council is composed of members of the public appointed by the Secretary and Federal ex-officio members.

II Agenda

On Friday, July 26, 2002, the meeting will begin at 8:30 a.m., with the call to order by the Council Chairwoman. The Acting Director, AHRQ, will present the status of the Agency's current research, programs, and initiatives. Tentative agenda items include discussions on research efforts with respect to health care costs, health information technology, and quality of care, and prevention. The official agenda will be available on AHRQ's website at www.ahrq.gov no later than July 8, 2002. The meeting will adjourn at 4 p.m.

Dated: June 27, 2002.
Carolyn M. Clancy,
Acting Director.

[FR Doc. 02-17064 Filed 7-8-02; 8:45 am]

BILLING CODE 4160-90-M